DEPARTMENT OF THE INTERIOR

Bureau of Land Management

[20X.LLAKF03000 L16100000.PN0000]

Notice of Availability for the Central Yukon Draft Resource Management Plan/Environmental Impact Statement, Alaska

AGENCY: Bureau of Land Management, Interior.

ACTION: Notice of availability.

SUMMARY: In accordance with the National Environmental Policy Act of 1969, as amended, and the Federal Land Policy and Management Act of 1976, as amended, the Bureau of Land Management (BLM) releases the Central Yukon Draft Resource Management Plan/Environmental Impact Statement (RMP/EIS) for public review and comment. The BLM will hold virtual public meetings and Alaska National Interest Lands Conservation Act (ANILCA) Section 810 subsistence-related hearings regarding the Central Yukon Draft RMP/EIS. Copies or notification of the electronic availability for the Central Yukon Draft RMP/EIS are being sent to affected federal, state, tribal, and local government agencies and to other stakeholders.

DATES: To ensure that comments will be considered, the BLM must receive written comments on the Draft EIS within 90 days following the date the Environmental Protection Agency publishes its Notice of Availability in the Federal Register. The BLM will announce virtual public meetings, subsistence-related hearings, and any other public participation activities at least 15 days in advance on the NEPA Register program page, https://eplanning.blm.gov/eplanning-ui/project/35315/510, as well as through public notices, press releases, social media posts, and/or mailings.

ADDRESSES: You can review and download the Central Yukon Draft RMP/EIS online from the BLM's NEPA Register at https://eplanning.blm.gov/eplanning-ui/project/35315/510. Select the “Documents” tab to find the electronic version of this material. Hard copies of the Draft RMP/EIS are also available for public inspection at the offices listed in this section in compliance with current COVID-19 protocols.

You may provide comments by mail, fax, email, or in person. Mail comments to: BLM Central Yukon Field Office, Attention: Central Yukon Draft RMP/EIS, 222 University Avenue, Fairbanks, AK 99709. Fax comments to (907) 474-2282 or email comments to CentralYukon@blm.gov. Hand-deliver comments to any of the locations listed in this section in compliance with current COVID-19 protocols.

Please contact each of the following facilities before visiting to determine their specific COVID-19 protocols, which might include needing an appointment and face mask to enter:

BLM Fairbanks District Office, 222 University Avenue, Fairbanks, AK 99709, (907) 474-2200.

BLM Alaska Public Information Center, James M. Fitzgerald Federal Building, 222 West 7th Avenue, Anchorage, AK 99513, (907) 271-5960.

Alaska Resources Library & Information Services, 3211 Providence Drive, Suite 111, Anchorage, AK 99508, (907) 272-7547.

Alaska Public Lands Information Center, 101 Dunkel Street Suite 110, Fairbanks, AK 99701, (907) 459-3730.

FOR FURTHER INFORMATION CONTACT: Michelle Ethun, BLM Central Yukon Field Office, at (907) 474-2253 or methun@blm.gov. People who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The Central Yukon Draft RMP/EIS is a comprehensive framework for future public land management actions in the Central Yukon region of Alaska. The planning area consists of about 55.7 million acres of land, including approximately 13.3 million acres of public lands managed by the BLM Central Yukon Field Office.

The Record of Decision for the Central Yukon RMP/EIS will guide management of these public lands for the next 15 to 20 years for the benefit of current and future generations as part of BLM's multiple-use mission. This planning effort is updating management decisions for public land uses and resources, including subsistence resources, mineral exploration and development, and recreation. When complete, the updated Central Yukon RMP will replace the Utility Corridor RMP (1991), the original Central Yukon RMP (1986), and portions of the Southwest Management Framework Plan (1981), as well as provide RMP-level decisions for unplanned lands west of Fairbanks. Although still draft, it provides:

• Consolidated direction under one resource management plan to address land and resource use and development on BLM-managed public lands within the planning area.

• An analysis of the environmental effects that could result from implementing the alternatives proposed in the Central Yukon Draft RMP/EIS. This Central Yukon Draft RMP/EIS evaluates five alternatives for managing the planning area. Alternative A, the no action alternative, represents existing management described by current land use plans and provides the benchmark against which to compare the other alternatives. Alternative B emphasizes reducing the potential for competition between development uses and subsistence resources by identifying key areas for additional management actions. Alternative C1 emphasizes a blend of resource protection and development at the planning level to maintain the long-term sustainability of resources while providing for multiple resource uses. Alternative C2, which is the agency preferred alternative, emphasizes management to facilitate resource development while applying habitat management and administrative designations to accommodate multiple uses. Alternative D focuses on maximizing BLM-managed public lands for development potential with fewer management restrictions at the planning level. Alternatives B, C1, C2, and D were developed using input from the public, tribes, stakeholders, and cooperating agencies. Major planning issues addressed include subsistence resources, water resources, fisheries, and wildlife; forestry; minerals and mining; recreation; travel management and access; and areas of critical environmental concern. Section 810 of ANILCA requires the BLM to evaluate the effects of all alternatives presented in the Draft EIS on subsistence resources and activities, as well as hold public hearings if it finds that any alternative may significantly restrict subsistence uses. The preliminary evaluation of impacts analyzed in the Central Yukon Draft RMP/EIS found that associated impacts may significantly restrict subsistence uses. Therefore, the BLM will hold virtual public hearings on subsistence resources and activities in conjunction with the Central Yukon Draft RMP/EIS virtual public meetings for potentially affected communities. Before including your address, phone number, email address, or other personally identifying information in your comment, be aware that your entire comment—including your personally identifying information—may be made publicly available at any time. While you can ask the BLM in your comment to withhold your personally identifying information from public review, we cannot guarantee that we will be able to do so.

Authority: 16 U.S.C. 3120(a); 40 CFR 1506.6(b)

Chad B. Padgett,
State Director, Alaska.

[FR Doc. 2020-27253 Filed 12-10-20; 8:45 am]

BILLING CODE 4310-JA-P